DEPARTMENT OF HEALTH AND HUMAN SERVICES

Substance Abuse and Mental Health Services Administration

Extension of Application Deadline Date for “Targeted Capacity Expansion Program for Substance Abuse Treatment and HIV/AIDS Services”

AGENCY: Center for Substance Abuse Treatment (CSAT), Substance Abuse and Mental Health Services Administration (SAMHSA), DHHS.

ACTION: Extension of deadline date to May 16, 2001 for applications submitted under CSAT's Targeted Capacity Expansion Program for Substance Abuse Treatment and HIV/AIDS Services—TI 01-007, (short title: TCE/HIV).

This notice is to inform the public that SAMHSA/CSAT has extended the deadline date for applications for its TCE/HIV (TI 01-007) funding announcement from May 4 to May 16, 2001. This extension is provided to allow applicants additional time to develop comprehensive, competitive applications. The original notice of the availability of funding for the TCE/HIV program was published in the Federal Register on March 15, 2001 (Vol. 66, No. 51, pages 15133-15135).

The full funding announcement and necessary application materials may be obtained from the National Clearinghouse for Alcohol and Drug Information at 1-800-729-6686, or downloaded from the SAMHSA web site—www.samhsa.gov.

Questions related to the TCE/HIV program should be directed to David C. Thompson at 301-443-6523 or dthompso@samhsa.gov.

Dated: April 4, 2001.
Richard Kopanda,
Executive Officer, SAMHSA.

[FR Doc. 01-8756 Filed 4-9-01; 8:45 am]

BILLING CODE 4162-20-P